DEPARTMENT OF ENERGY

Federal Energy Regulatory Commission

[Docket No. CP04-34-000]

Columbia Gas Transmission Corporation; Notice of Intent To Prepare an Environmental Assessment for the Proposed Line 1278 Replacement Project and Request for Comments on Environmental Issues

January 21, 2004.

The staff of the Federal Energy Regulatory Commission (FERC or Commission) will prepare an environmental assessment (EA) that will discuss the environmental impacts of the Line 1278 Replacement Project involving the replacement of 43.4 miles of its existing Line 1278 pipeline by Columbia Gas Transmission Corporation (Columbia) in Northampton, Monroe, and Pike Counties, Pennsylvania.¹ Columbia has indicated that it intends to replace about 10.7 miles of its Line 1278 pipeline in Bucks and Northampton Counties under its blanket certificate issued in Docket No. CP83-76-000. Construction would be done in two phases in 2004 and 2005 as described below. This EA will be used by the Commission in its decision-making process to determine whether the project is in the public convenience and necessity.

¹ Columbia's application was filed with the Commission under sections 7(b) and 7(c) of the Natural Gas Act and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Columbia provided to landowners. This fact sheet addresses a number of typically asked questions including the use of eminent domain and how to participate in the Commission's proceedings. It is available for viewing on the FERC Internet Web site (http://www.ferc.gov).

Summary of the Project

Columbia is under mandate from the United States Department of Transportation to replace deteriorated sections of its existing 14-inch-diameter Line 1278. Columbia proposes to replace and upgrade a segment of 43.4 miles of Line 1278, commencing in Northampton County and terminating in Pike County, Pennsylvania. This portion of pipeline would be upgraded to 20-inch-diameter pipeline mostly within the same trench of the existing pipeline on Columbia's existing right-of-way. Additional temporary workspace outside of Columbia's existing right-of-way would be required.

Pursuant to the Pennsylvania Department of Transportation (PENNDOT) relocation of Route 209 (future Route 402) in Marshall's Creek, Monroe County, Pennsylvania, Columbia has been forced to relocate 0.8 mile of its existing right-of-way. The forced relocation (included in the overall 43.4-mile segment) would result in about 6.1 acres of impact. Upon relocation of the pipeline at Route 209, Columbia would abandon the existing right-of-way affected by PENNDOT's project-in-place. PENNDOT would acquire property rights over the affected portions of Columbia's right-of-way and the abandoned pipeline.

Columbia would replace eight 14-inch-diameter valve settings with 20-inch-diameter valve settings, remove a 12-inch-diameter valve setting, and install a new 20-inch-diameter valve setting. The existing 14-inch diameter pig launcher presently located at the Easton Compressor Station would be removed and relocated to the northern terminus of the project at Weber Road for use on Line 1278 northward to the Millrift Valve Station at the Delaware River. A new 20-inch-diameter receiver and a 12-inch-diameter regulator setting would also be installed at the Millrift Valve Station.

Columbia would proceed with construction in four distinct segments. The 0.8 mile relocation at Route 209 would proceed from May through November of 2004 as would 15.1 miles of the replacement in Pike County. From May through November of 2005, Columbia would undertake the replacement of a 21.1 mile segment in Northampton and Monroe Counties and a 6.2 mile segment in Monroe and Pike Counties.

The location of the project facilities is shown in appendix 1.²

² The appendices referenced in this notice are not being printed in the Federal Register. Copies of all appendices, other than appendix 1 (maps), are available on the Commission's Web site at the “eLibrary” link or from the Commission's Public Reference and Files Maintenance Branch, 888 First Street, NE., Washington, DC 20426, or call (202) 502-8371. For instructions on connecting to eLibrary refer to the last page of this notice. Copies of the appendices were sent to all those receiving this notice in the mail.

Land Requirements for the Project

It is expected that 478.7 acres would be affected by the replacement project. The project would utilize Columbia's existing 50-foot right-of-way and a 25-foot temporary construction right-of-way. About 23.5 acres of extra workspace would be needed for staging areas, and at road crossings, waterbody and wetland crossings, and steep slopes. About 34.9 acres of access roads would also be needed temporarily, and all but one of the access roads are existing.

The 0.8 mile reroute consisting of 6.1 (included in the above total) acres would be the only new permanent right-of-way acquired by Columbia for this project. The launcher/receiver and regulator setting would require a new fenced lot of about 100-feet by 200-feet at Weber Road at the northern terminus of the project.

The EA Process

The National Environmental Policy Act (NEPA) requires the Commission to take into account the environmental impacts that could result from its action whenever it considers the issuance of a Certificate of Public Convenience and Necessity. NEPA also requires us³ to discover and address concerns the public may have about proposals. This process is referred to as “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ “We”, “us”, and “our” refer to the environmental staff of the Office of Energy Projects (OEP).

The EA will discuss impacts that could occur as a result of the construction and operation of the proposed project under these general headings:

• Geology and soils.

• Land use.

• Water resources, fisheries, and wetlands.

• Cultural resources.

• Vegetation and wildlife.

• Air quality and noise.

• Public safety.

• Endangered and threatened species.

We will also evaluate possible alternatives to the proposed project, and make recommendations on how to lessen or avoid impacts on the various resource areas.

Our independent analysis of the issues will be in the EA. Depending on the comments received during the scoping process, the EA may be published and mailed to Federal, state, and local agencies, public interest groups, Native American tribes, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by Columbia. This preliminary list of issues may be changed based on your comments and our analysis.

• Crossing through 3.6 miles of the Delaware Water Gap—National Recreation Area.

• Crossing 51 perennial streams.

• Crossing 124 wetlands, including disturbance to 26.3 acres of forested wetlands.

• One federally-listed amphibian specie.

• 172 residences located within 50 feet of the construction work area.

Public Participation

You can make a difference by providing us with your specific comments or concerns about the project. By becoming a commentor, your concerns will be addressed in the EA and considered by the Commission. You should focus on the potential environmental effects of the proposal, and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 1.

• Reference Docket No. CP04-34-000.

• Mail your comments so that they will be received in Washington, DC on or before February 23, 2004.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.

We may mail the EA for comment. If you are interested in receiving it, please return the Information Request (appendix 4). If you do not return the Information Request, you will be taken off the mailing list.

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project.

SUPPLEMENTARY INFORMATION: Additional information about the project is available from the Commission's Office of External Affairs, at 1-866-208-FERC or on the FERC Internet website (http://www.ferc.gov) using the eLibrary link. Click on the eLibrary link, click on “General Search” and enter the docket number excluding the last three digits in the Docket Number field. Be sure you have selected an appropriate date range. For assistance with eLibrary, the eLibrary helpline can be reached at 1-866-208-3676, TTY (202) 502-8659, or at ferconlinesupport@ferc.gov. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E4-128 Filed 1-27-04; 8:45 am]

BILLING CODE 6717-01-P